NATIONAL TRANSPORTATION BOARD

Notice of Meeting; Sunshine Act

Agenda

time: 9:30 a.m., July 6, 2006.

place: NTSB Conference Center, 429 L'Enfant Plaza, SW., Washington, DC 20594.

status: The one item is open to the public.

matter to be considered:

7675A Railroad Accident Report—Collision of Union Pacific Train MHOTU-23 With BNSF Railway Company Train MEAP-TUL-126-D With Subsequent Derailment and Hazardous Materials Release, Macdona, Texas, June 28, 2004.

News Media Contact: Ted Lopatkiewicz, Telephone: (202) 314-6100.

Individuals requesting specific accommodations should contact Chris Bisett at (202) 314-6305 by June 30, 2006.

The public may view the meeting via a live or archived webcast by accessing a link under “News & Events” on the NTSB home page at http://www.ntsb.gov.

FOR FURTHER INFORMATION CONTACT: Vicky D'Onofrio, (202) 314-6410.

Dated: June 23, 2006.
Vicky D'Onofrio,
Federal Register Liaison Officer.

[FR Doc. 06-5779 Filed 6-23-06; 2:57 pm]

BILLING CODE 7533-01-M